DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed extension collection of the reemployement services reporting request. A copy of the proposed information collection request (ICR) can be obtained by contacting the office listed below in the addressee section of this notice.

DATES: Written comments must be submitted to the office listed in the addressee's section below on or before July 24, 2001.

ADDRESSES: Gay Gilbert, Office of Workforce Security, U.S. Employment Service, 200 Constitution Ave. NW Room C4512, Washington, DC 20210, (202) 693-3046, (This is not a toll free number), FAX (202) 693-3229.

SUPPLEMENTARY INFORMATION:

I. Background

In Program Year 2001 budget for Wagner-Peyser Act State Employment Service Agencies (SESA) were allocated funds for reemployment services to UI claimants. ETA is requesting authorization to require SESAs to submit an annual plan narrative and one progress report at the end of the year. The materials will assist ETA in reviewing the appropriateness of the selected activity for reemployment services and determining whether or not the purpose of the funds was achieved. Specific reporting is necessary to adequately tract this activity separately from regular operations and record keeping.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for the OMB approval of an extension to an existing collection of information previously approved under the emergency processing for activities funded through reemployment services allotments. The activities funded under the reemployment services allotments will go beyond the OMB six month emergency processing approval. Therefore this request is being submitted to permit the data collection for the total period of the reemployment services allotment activities for the first year and any new allotments during the next three years.

Type of Review: Extension (without change).

Agency: Employment and Training.

Title: Reemployment Services Plan and Report.

OMB Number: 1205-ONEW.

Affected Public: States.

Total Respondents: 54.

Frequency: Annual.

Total Responses: 108.

Average Time per Response: 56.

Form | Number of respondents | Responses per year | Total responses | Hours per response | Total burden hours
Annual Plan | 54 | 1 | 54 | 40 | 2,160
Progress Report | 54 | 1 | 54 | 16 | 864
Totals | 54 | 2 | 108 | 56 | 3,024

Estimated Total Burden Hours: 3,024.

Total Burden Cost: (capital/startup): 0.

Total Burden Cost: (operating/maintaining): $108.

Comments submitted in response to this comment request will be summarized and/or included in the request for Office of Management and Budget approval of the information collection request; they will also become a matter of public record.

Dated: May 14, 2001.
Gay Gilbert,
Division Chief of U.S. Employment Service/ALMIS.

[FR Doc. 01-13228 Filed 5-24-01; 8:45 am]

BILLING CODE 4510-30-M